COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes a product and services from the Procurement List that were furnished by nonprofit agencies employing persons who are blind or have other severe disabilities.

DATES: Date deleted from the Procurement List: November 24, 2019.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Deletions

On 9/13/2019 and 9/20/2019, the Committee for Purchase From People Who Are Blind or Severely Disabled published notice of proposed deletions from the Procurement List.

After consideration of the relevant matter presented, the Committee has determined that the product and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product and services to the Government.

3. There are no known regulatory alternatives which would accomplish the objectives of the Javits-Wagner-O'Day Act (41 U.S.C. 8501-8506) in connection with the product and services deleted from the Procurement List.

End of Certification

Accordingly, the following product and services are deleted from the Procurement List:

Products

NSN—Product Name: 3915-04-000-4368—Small Web Door Assembly

Contracting Activity: USPS, Topeka Purchasing Center, Topeka, KS

Services

Service Type: Bursting/Packaging Commemorative Stamps

Mandatory for: Department of the Interior: 1849 C Street NW, Washington, DC

Mandatory Source of Supply: Allied Community Services, Inc., Enfield, CT

Contracting Activity: OFFICE OF POLICY, MANAGEMENT, AND BUDGET, NBC ACQUISITION SERVICES DIVISION

Service Type: Janitorial/Custodial

Mandatory for: U.S. Army Reserve Center, Fort Hamilton, NY

Mandatory Source of Supply: Fedcap Rehabilitation Services, Inc., New York, NY

Contracting Activity: DEPT OF THE ARMY, W6QM MICC CTR-FT DIX (RC)

Service Type: Mailroom Operation

Mandatory for: Food and Drug Administration: 5630 Fishers Lane, Rockville, MD

Mandatory Source of Supply: Lt. Joseph P. Kennedy Institute, Washington, DC

Contracting Activity: FOOD AND DRUG ADMINISTRATION, DEPT OF HHS/FOOD AND DRUG ADMINISTRATION

Service Type: Laundry Service

Mandatory for: Immigration & Naturalization Service, 201 Varick Building, New York, NY

Contracting Activity: OFFICE OF POLICY, MANAGEMENT, AND BUDGET, NBC ACQUISITION SERVICES DIVISION

Service Type: Janitorial/Custodial

Mandatory for: VA Outpatient Clinic, Winston-Salem, NC

Mandatory Source of Supply: OE Enterprises, Inc., Hillsborough, NC

Contracting Activity: VETERANS AFFAIRS, DEPARTMENT OF, 246-NETWORK CONTRACTING OFFICE 6

Service Type: Janitorial/Custodial

Mandatory for: Eugene Outpatient Clinic: Department of Veteran Affairs, Eugene, OR

Mandatory Source of Supply: Garten Services, Inc., Salem, OR

Contracting Activity: VETERANS AFFAIRS, DEPARTMENT OF, NAC

Service Type: Janitorial/Custodial

Mandatory for: West LA VA Community Base Clinic, Los Angeles, CA

Mandatory for: San Diego Vet Center: 2900 Sixth Avenue, San Diego, CA

Mandatory for: Veterans Outreach Center, Vista, CA

Mandatory Source of Supply: Job Options, Inc., San Diego, CA

Contracting Activity: VETERANS AFFAIRS, DEPARTMENT OF, NAC

Service Type: Janitorial/Custodial

Mandatory for: Veterans Affairs Medical Center: 7305 N. Military Trail, West Palm Beach, FL

Mandatory Source of Supply: Gulfstream Goodwill Industries, Inc., West Palm Beach, FL

Contracting Activity: VETERANS AFFAIRS, DEPARTMENT OF, 548P-WEST PALM PROSTHETICS

Patricia Briscoe,
Deputy Director, Business Operations (Pricing and Information Management).

[FR Doc. 2019-23294 Filed 10-24-19; 8:45 am]

BILLING CODE 6353-01-P